DEPARTMENT OF TRANSPORTATION

Federal Aviation Administration

Notice of Intent To Rule on a Land Release Request at North Central West Virginia Airport (CKB), Clarksburg, WV

AGENCY: Federal Aviation Administration (FAA), DOT.

ACTION: Notice and request for comment.

SUMMARY: The FAA proposes to rule and invites public comment on the application for a land release of 4.09 acres of federally obligated airport property at North Central West Virginia Airport (CKB), Clarksburg, WV, from the conditions, reservations and restrictions contained in Airport Improvement Program grants that restrict the use of said land to aeronautical purposes. This acreage was originally purchased with federal financial assistance through the Airport Improvement Program. The release will allow the airport to generate revenue through the lease of a logistics and storage park that is proposed for construction. The proposed use of land after the release will not interfere with the airport or its operation.

DATES: Comments must be received on or before July 31, 2019.

FOR FURTHER INFORMATION CONTACT: Comments on this application may be mailed or delivered to the FAA at the following address: Matthew DiGiulian, Manager, Beckley Airports Field Office, 176 Airport Circle, Room 101, Beaver, WV 25813, (304) 252-6216.

In addition, one copy of the comment submitted to the FAA must be mailed or delivered to Mr. Rick Rock, Airport Director, North Central West Virginia Regional Airport, 2000 Aviation Way, Bridgeport, West Virginia 26330, (304) 842-3400.

This land release request may be reviewed in person at the Beckley Airports Field Office located at 176 Airport Circle, Room 101, Beaver, WV 25813. Please contact Connie Boley-Lilly, Airports Program Specialist, Beckley Airports Field Office, location listed above. (304) 252-6216 ext. 125 for more information.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreement. The following is a brief overview of the request: The Benedum Airport Authority has submitted a land release request seeking FAA approval for the release of approximately 4.09 acres of federally obligated airport property for non-aeronautical use. The purpose of the release is to enable the airport to earn revenue from airport property that does not have an aeronautical use by allowing it to be used for non-aeronautical purposes. The airport will retain ownership of the property and lease it out. The property will be turned into a logistics and storage park that will house up to 4 buildings, parking, and an entrance road off of Route 50. The airport has received a United States Economic Development Authority (USEDA) grant to construct the logistics and storage facilities. The total project cost is $2,124,000 with the USEDA contributing $1,704,000 and a local match of $420,000.

The 4.09 acres of land to be released from aeronautical use, was originally purchased with federal financial assistance through the AIP program under Grant Agreement 3-54-0005-16-1996 as part of a larger purchase totaling approximately 120 acres. The purchase of the entire 120 acres was performed to accommodate a proposed runway extension. The subject area to be released is located off the south east corner of the runway and is well below the elevation of the movement area of the airport. It is also completely segregated from the terminal area and the facilities that serve airport users, such as Terminal Parking and Fixed Base Operator (FBO) services. Therefore, the elevation difference and location of the property make if unusable for aeronautical purposes. Furthermore, the property is not located within the RPZ, will not result in any obstructions to part 77 surfaces, and has not been identified as needed for current or future airport development in the current Airport Master Plan or ALP. The rental income will be devoted to airport operations and capital projects. The proposed use of the property will not interfere with the airport or its operation; and will thereby, serve the interests of civil aviation.

Issued in Beaver, West Virginia.
Matthew DiGiulian,
Manager, Beckley Airports Field Office.

[FR Doc. 2019-13995 Filed 6-28-19; 8:45 am]

BILLING CODE 4910-13-P